DEPARTMENT OF DEFENSE

Department of the Army, Corps of Engineers

Notice of Intent to Prepare an Environmental Impact Statement for the Rahway River Basin Flood Risk Management Study

AGENCY: U.S. Army Corps of Engineers, DOD.

ACTION: Notice of Intent.

SUMMARY: In compliance with the National Environmental Policy Act (NEPA), the U.S. Army Corps of Engineers, New York District (Corps) in partnership with the New Jersey Department of Environmental Protection (NJDEP) as the non-federal sponsor, is preparing an integrated Feasibility Report/Environmental Impact Statement (EIS) in accordance with Council on Environmental Quality's NEPA regulations; Corps' principles and guidelines as defined in Engineering Regulations (ER) 1105-2-100, Planning Guidance Notebook, and ER 200-2-2, Procedures for Implementing NEPA; and other applicable Federal and State environmental laws for the proposed Rahway River Basin Flood Risk Management Feasibility Study. The study is assessing the feasibility of flood risk management alternatives to be implemented within the congressionally authorized study area with a specific emphasis on the Township of Cranford and the City of Rahway in Union County, New Jersey.

The District was authorized under U.S. House of Representatives Resolution Docket 2548, dated March 24, 1998 to identify recommendations in the interest of water resources development.

ADDRESSES: Send written comments and suggestions concerning the scope of issues to be evaluated within the EIS to Kimberly Rightler, Project Biologist/NEPA Coordinator, U.S. Army Corps of Engineers, New York District, Planning Division, Environmental, 26 Federal Plaza, New York, NY 10279-0090; Phone: (917) 790-8722; email: kimberly.a.rightler@usace.army.mil.

FOR FURTHER INFORMATION CONTACT: Questions about the overall Rahway River Basin Flood Risk Management Feasibility Study should be directed to Rifat Salim, Project Manager, U.S. Army Corps of Engineers, New York District, Programs and Project Management Division, Civil Works Programs Branch, 26 Federal Plaza, Room 2127, New York, NY 10279-0090; Phone: (917) 790-8215; email: rifat.salim@usace.army.mil.

SUPPLEMENTARY INFORMATION:

1. Background

The U.S. Army Corps of Engineers (Corps), in partnership with the New Jersey Department of Environmental Protection (NJDEP), is undertaking this study. Flooding within the Rahway River Basin is caused principally by the rapid development of the area, which has resulted in a large increase of stormwater runoff into the Rahway River and its tributaries. The increased runoff coupled with inadequate channel capacities and bridge openings account for most of the flooding problems.

Storm events in the Rahway River Basin which caused significant damage are the storms of July 1938, May 1968, August 1971, August 1973, November 1977, July 1979, June 1992, October 1996, July 1997, Tropical Storm Floyd in September 1999, April 2007 and Tropical Storm Irene in August 2011.

In response to locals concerns regarding flooding, Congress funded the Corps to conduct a reconnaissance study of the Rahway River Basin. In July 1999, the Corps issued a favorable reconnaissance report recommending that a feasibility study be conducted to develop flood risk management alternatives in the Rahway River Basin. The NJDEP concurred with the Corps' reconnaissance study recommendations and signed a Feasibility Cost Sharing Agreement (FCSA) on March 14, 2002 to cost share the feasibility study. While an entire basin study was authorized, an initial screening conducted in 2006 determined that Cranford and the City of Rahway had the greatest potential for Federal Interest.

Subsequent of Hurricane Irene in August 2011, local stakeholders requested the Corps, through NJDEP, to investigate potential flood storage opportunities outside/upstream of the Township of Cranford that would benefit not only Cranford but other municipalities as well. As part of their request, the local stakeholders presented several alternatives. As a result, the Corps conducted a preliminary alternative analysis to determine those alternatives that should be considered for further evaluation.

In total, eight alternatives were developed and are listed below:

1. Cranford Alternative 1: Channel Improvements and Modification to the Lenape Park Levees

2. Cranford Alternative 2: Channel Improvements and modification to the Nomahegan Park Levees and Lenape Park Levees

3. Cranford Alternative 3: Channel Improvements and dredging Orange Reservoir

4. Cranford Alternative 4: Channel Improvements and new outlet at Orange Reservoir

5. Cranford Alternative 5: Channel Improvements and South Mountain Regional Detention Basin

6. Cranford Alternative 5a: Channel Improvements and South Mountain Regional Detention Basin with relocation of Brookside Drive

7. Cranford Alternative 6: South Mountain Regional Detention Basin

8. Cranford Alternative 6a: South Mountain Regional Detention Basin with relocation of Brookside Drive

9. Cranford Alternative 7: Nonstructural 10 year flood plain in Cranford

10. Cranford Alternative 7a: Nonstructural-100-yr floodplain in Cranford

11. Cranford Alternative 8: Lenape Park Detention Basin and Orange Reservoir Outlet Modification

Two public information sessions were held in Cranford and Millburn Townships in May 2014 to provide public with status of the study including description of plans, cost estimate, and benefit to cost analysis of the preliminary alternatives for Cranford study area alternatives. Based on the benefit cost analysis and public feedback, Cranford Alternatives 4, 7a and 8 will be carried forward for additional analysis and evaluation.

2. Project Area

The project area encompasses the portion of the Rahway River located in the Townships of West Orange, Maplewood, Millburn, Union, Westfield in Essex County, and the Township of Cranford and the City of Rahway, and the Robinson's Branch, a tributary to the Rahway River, in the City of Rahway in Union County.

3. Alternatives

Although the preliminary Cranford alternatives (see Background) will be discussed in the EIS, the following alternatives will be the primary focus of the evaluation in the EIS. A full description of each alternative can be found at www.nan.usace.army.mil/Rahway.

3.1 No Action

3.2 Non-Structural

3.3 Cranford Alternative 4. Channel Improvements and Modification of Orange Reservoir Outlet

3.4 Cranford Alternative 8: Modification of Lenape Park Detention Levees and Modification of Orange Reservoir Outlet

3.5 Cranford Alternative 9. Modification of Lenape Park Detention Levees, Modification of Orange Reservoir Outlet and Channel Improvements

3.6 Robinson's Branch Alternative 1: Levees/floodwalls and Channel Improvements

3.7 Robinson's Branch Alternative 2: Modification of Middlesex Reservoir

4. Public Participation

The Corps and the NJDEP hosted a NEPA Scoping Meeting on 15 June 2015. Public notices announcing the meeting date, time, location and agenda were published in the appropriate local newspapers, and on the Corps' New York District Web page and will be distributed to the local stakeholders and known interested parties.

A scoping comment period of 30 days to conclude on 15 July has been established to allow agencies, organizations and individuals to submit comments, questions and/or concerns regarding the Feasibility Study. Comments, concerns and information submitted to the Corps will be evaluated and considered during the development of the Draft EIS.

The Corps will utilize feedback received from the NEPA Scoping Period to identify additional public information meeting needs prior to the selection of a preferred alternative. Meeting notifications will follow the same process used for the NEPA Scoping Meeting.

5. Lead and Cooperating Agencies

The U.S. Army Corps of Engineers is the lead federal agency for the preparation of the environmental impact statement (EIS) and meeting the requirements of the National Environmental Policy Act and the NEPA Implementing Regulations of the President's Council on Environmental Quality (40 CFR 1500-1508). Federal agencies interested in participating as a Cooperating Agency are requested to submit a letter of intent to Colonel David A. Caldwell, District Engineer (see ADDRESSES). The preparation of the EIS will be coordinated with New Jersey State and local municipalities with discretionary authority relative to the proposed actions. The Draft integrated Feasibility Report/EIS is currently scheduled for distribution to the public June 2016.

Dated: June 24, 2015.
Peter M. Weppler,
Chief, Environmental Analysis Branch, Planning Division.

[FR Doc. 2015-16364 Filed 7-1-15; 8:45 am]

BILLING CODE 3720-58-P